DEPARTMENT OF COMMERCE

International Trade Administration

[A-570-886, A-557-813, A-549-821]

Polyethylene Retail Carrier Bags From the People's Republic of China, Thailand, and Malaysia: Final Results of the Expedited Sunset Reviews of the Antidumping Duty Orders

AGENCY: Import Administration, International Trade Administration, Department of Commerce.

SUMMARY: On July 1, 2009, the Department of Commerce (the Department) initiated sunset reviews of the antidumping duty orders on polyethylene retail carrier bags (PRCBs) from the People's Republic of China (PRC), Thailand, and Malaysia pursuant to section 751(c) of the Tariff Act of 1930, as amended (the Act). See Initiation of Five-year (“Sunset”) Review, 74 FR 31412 (July 1, 2009). The Department has conducted expedited (120-day) sunset reviews for these orders. As a result of these sunset reviews, the Department finds that revocation of the antidumping duty orders would be likely to lead to continuation or recurrence of dumping as indicated in the “Final Results of Review” section of this notice.

DATES: Effective Date: October 19, 2009.

FOR FURTHER INFORMATION CONTACT: Dustin Ross or Minoo Hatten, AD/CVD Operations, Office 5, Import Administration, International Trade Administration, U.S. Department of Commerce, 14th Street and Constitution Avenue, NW., Washington, DC 20230; telephone: (202) 482-0747 or (202) 482-1690, respectively.

SUPPLEMENTARY INFORMATION:

Background

On July 1, 2009, the Department published the notice of initiation of the sunset reviews of the antidumping duty orders ¹ on PRCBs from the PRC, Malaysia, and Thailand pursuant to section 751(c) of the Act. See Initiation of Five-year (“Sunset”) Reviews, 74 FR 31412 (July 1, 2009) (Notice of Initiation).

¹ On August 9, 2004, the Department published the following antidumping duty orders: Antidumping Duty Order: Polyethylene Retail Carrier Bags From the People's Republic of China, 69 FR 48201 (August 9, 2004); Antidumping Duty Order: Polyethylene Retail Carrier Bags From Malaysia, 69 FR 48203 (August 9, 2004); Antidumping Duty Order: Polyethylene Retail Carrier Bags From Thailand, 69 FR 48204 (August 9, 2004).

The Department received notices of intent to participate in these sunset reviews from the Polyethylene Retail Carrier Bag Committee and its individual members, Hilex Poly Co., LLC, Superbag Corporation, Unistar Plastics LLC, Command Packaging, Roplast Industries Inc., and Genpack LLC (collectively, the Committee) within the 15-day period specified in 19 CFR 351.218(d)(1)(i). The domestic interested parties claimed interested-party status under section 771(9)(C) of the Act as producers of a domestic like product in the United States.

The Department received complete substantive responses to the Notice of Initiation from the domestic interested parties within the 30-day period specified in 19 CFR 351.218(d)(3)(i). The Department received no substantive responses from any respondent interested parties. On the basis of a notice of intent to participate and adequate substantive responses filed on behalf of the domestic interested parties and no responses filed on behalf of respondent interested parties and in accordance with 751(c)(3)(B) of the Act and 19 CFR 351.218(e)(1)(ii)(C)(2), the Department is conducting expedited (120-day) sunset reviews of the antidumping duty orders on PRCBs from the PRC, Malaysia, and Thailand.

Scope of the Orders

The product covered in the sunset reviews of the antidumping duty orders on PRCBs from the PRC, Malaysia, and Thailand is PRCBs which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments, e.g., grocery, drug, convenience, department, specialty retail, discount stores, and restaurants, to their customers to package and carry their purchased products. The scopes of the orders exclude (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

As a result of changes to the Harmonized Tariff Schedule of the United States (HTSUS), imports of the subject merchandise are currently classifiable under statistical category 3923.21.0085 of the HTSUS. Furthermore, although the HTSUS subheading is provided for convenience and customs purposes, the written descriptions of the scopes of the orders are dispositive.

Analysis of Comments Received

All issues raised in these reviews are addressed in the “Issues and Decision Memorandum for the Expedited Sunset Reviews of the Antidumping Duty Orders on Polyethylene Retail Carrier Bags from the People's Republic of China, Malaysia, and Thailand” from Acting Deputy Assistant Secretary John M. Andersen to Acting Assistant Secretary Ronald K. Lorentzen dated concurrently with this notice (Decision Memo), which is hereby adopted by this notice. The issues discussed in the Decision Memo include the likelihood of continuation or recurrence of dumping and the magnitude of the margins likely to prevail if the orders were revoked. Parties can find a complete discussion of all issues raised in these reviews and the corresponding recommendations in this public memorandum which is on file in the Central Records Unit, Room 1117 of the main Department of Commerce building.

In addition, a complete version of the Decision Memo can be accessed directly on the Web at http://ia.ita.doc.gov/frn. The paper copy and electronic version of the Decision Memo are identical in content.

Final Results of Reviews

The Department determines that revocation of the antidumping duty orders on PRCBs from the PRC, Malaysia, and Thailand would be likely to lead to continuation or recurrence of dumping at the following weighted-average percentage margins:

Country | Company | Weighted-average margin (percent)
PRC | Dongguan Nozawa Plastics Products Co., Ltd. and United Power Packaging, Ltd. (formerly Dongguan Huang Jiang United Wah Plastic Bag Factory) | 23.22
| Rally Plastics Company, Ltd | 23.85
| Shanghai Glopack Packing Company, Ltd., and Sea Lake Polyethylene Enterprise, Ltd | 19.79
| Xiamen Ming Pak Plastics Company, Ltd | 35.58
| Zhongshan Dongfeng Hung Wai Plastic Bag Manufactory | 41.28
| Beijing Lianbin Plastics and Printing Company, Ltd | 25.69
| Dongguan Maruman Plastic Packaging Co., Ltd. (formerly Dongguan Zhongqiao Combine Plastic Bag Factory) | 25.69
| Good-in Holdings, Ltd | 25.69
| Guangdong Esquel Packaging Co., Ltd | 25.69
| Nan Sing Plastics, Ltd | 25.69
| Ningbo Fanrong Plastics Products Co., Ltd | 25.69
| Ningbo Huansen Plasthetics Co., Ltd | 25.69
| Rain Continent Shanghai Company, Ltd | 25.69
| Shanghai Dazhi Enterprise Development Company, Ltd | 25.69
| Shanghai Fangsheng Coloured Packaging Company, Ltd | 25.69
| Shanghai Jingtai Packaging Material Company, Ltd | 25.69
| Shanghai Light Industrial Products Import and Export Corporation | 25.69
| Shanghai Minmetals Development, Ltd | 25.69
| Shanghai New Ai Lian Import and Export Company, Ltd | 25.69
| Shanghai Overseas International Trading Company, Ltd | 25.69
| Shanghai Yafu Plastics Industries Company, Ltd | 25.69
| Weihai Weiquan Plastic and Rubber Products Company, Ltd | 25.69
| Xiamen Xingyatai Industry Company, Ltd | 25.69
| Xinhui Henglong | 25.69
| PRC-wide Rate | 77.57
Malaysia | Teong Chuan Plastic and Timber Sdn. Bhd | 101.74
| Brandpak Industries Sdn. Bhd | 101.74
| Gants Pac Industries | 101.74
| Sido Bangun Sdn. Bhd | 101.74
| Zhin HinlChin un Plastic Manufacturer Sdn. Bhd | 101.74
| All Others | 84.94
Thailand | Thai Plastic Bags Industries Co., Ltd | 2.26
| Universal Polybags Co. Ltd./Advance Polybags Inc./Alpine Plastics Inc./API Enterprises Inc | 5.35
| TRC Polypack | 122.88
| Champion Paper Polybags Ltd | 122.88
| Zip-Pac Co., Ltd./King Pac Industrial Co., Ltd./King Pak/Zippac/Dpac Industrial/Kingbag/KP | 122.88
| All Others | 2.80

Notification Regarding APO

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

The Department is issuing and publishing the final results and notice in accordance with sections 751(c), 752(c), and 777(i)(1) of the Act.

Dated: October 6, 2009.
Ronald K. Lorentzen,
Acting Assistant Secretary for Import Administration.

[FR Doc. E9-24540 Filed 10-16-09; 8:45 am]

BILLING CODE 3510-DS-M